DEPARTMENT OF HOMELAND SECURITY

Federal Emergency Management Agency

[Docket ID FEMA-2020-0002]

Final Flood Hazard Determinations

AGENCY: Federal Emergency Management Agency, Department of Homeland Security (DHS).

ACTION: Notice; withdrawal.

SUMMARY: The Federal Emergency Management Agency (FEMA) is withdrawing its final notice concerning the flood hazard determinations for Barnstable County, Massachusetts (All Jurisdictions); Norfolk County, Massachusetts (All Jurisdictions); Newport County, Rhode Island (All Jurisdictions).

DATES: The final notice of the flood hazard determinations for Barnstable County, Massachusetts (All Jurisdictions), Norfolk County, Massachusetts (All Jurisdictions), and Newport County, Rhode Island (All Jurisdictions), which published on March 17, 2020 (85 FR 15215), is withdrawn as of June 19, 2020.

FOR FURTHER INFORMATION CONTACT: Rick Sacbibit, Chief, Engineering Services Branch, Federal Insurance and Mitigation Administration, FEMA, 400 C Street SW, Washington, DC 20472, (202) 646-7659, or (email) patrick.sacbibit@fema.dhs.gov.

SUPPLEMENTARY INFORMATION: On March 17, 2020, FEMA published a notice at 85 FR 15216, containing final flood hazard determinations for Barnstable County, Massachusetts (All Jurisdictions); Norfolk County, Massachusetts (All Jurisdictions); and 85 FR 15218 for Newport County, Rhode Island (All Jurisdictions). Communities within the Cape Cod Watershed study experienced difficulties during the adoption and compliance period resulting in the inability to adopt the FIS and FIRM and thereby comply with the National Flood Insurance Program (NFIP) regulations. The final flood hazard determinations is hereby rescinded, and ordinances must revert to the previously adopted FIS Report and FIRM. FEMA is withdrawing the notice for the affected communities.

Authority: 42 U.S.C. 4104; 44 CFR 67.4.

Michael M. Grimm,
Assistant Administrator for Risk Management, Department of Homeland Security, Federal Emergency Management Agency.

[FR Doc. 2020-13281 Filed 6-18-20; 8:45 am]

BILLING CODE 9110-12-P